FEDERAL COMMUNICATIONS COMMISSION

47 CFR Part 54

[CC Docket Nos. 96-45, 96-98; FCC 02-11]

Federal-State Joint Board on Universal Service

AGENCY: Federal Communications Commission.

ACTION: Final rule; petitions for reconsideration.

SUMMARY: In this document, the Commission dismisses the petitions for reconsideration of the Universal Service First Report and Order, 62 FR 32862 (June 17, 1997), Local Competition First Report and Order, 61 FR 45476 (August 29, 1996) and Local Competition Second Report and Order, 61 FR 47284 (September 6, 1996) filed by those parties that have not indicated an intent to pursue their respective petitions.

DATES: These petitions are dismissed as of February 12, 2002.

FOR FURTHER INFORMATION CONTACT: Richard D. Smith, Common Carrier Bureau, Accounting Policy Division, (202) 418-7400.

SUPPLEMENTARY INFORMATION: This is a summary of the Commission's Order on Reconsideration in CC Docket Nos. 96-45, 96-98 released on January 29, 2002. The full text of this document is available for public inspection during regular business hours in the FCC Reference Center, Room CY-A257, 445 Twelfth Street, SW., Washington, DC 20554.

I. Introduction

1. In this document, the Commission dismisses the petitions for reconsideration of the Universal Service First Report and Order, 62 FR 32862 (June 17, 1997), Local Competition First Report and Order, 61 FR 45476 (August 29, 1996) and Local Competition Second Report and Order, 61 FR 47284 (September 6, 1996) filed by those parties that have not indicated an intent to pursue their respective petitions.

II. Discussion

2. To the extent that parties have not indicated an intent to pursue their respective petitions for reconsideration of the Universal Service First Report and Order, 62 FR 32862 (June 17, 1997), Local Competition First Report and Order, 61 FR 45476 (August 29, 1996) and Local Competition Second Report and Order, 61 FR 47284 (September 6, 1996) in response to the public notices, the Commission deems such petitions withdrawn and dismiss these petitions. The passage of time and intervening developments have rendered many such petitions moot or irrelevant in light of intervening events.

3. The Commission notes that several parties have refreshed the record in response to the public notices. The Commission will proceed to address these petitions for reconsideration in upcoming orders.

III. Ordering Clause

4. Pursuant to the authority contained in sections 1 and 4(i) of the Communications Act of 1934, as amended, 47 U.S.C. 151 and 154(i), and § 1.429 of the Commission's rules, the petitions for reconsideration of the Universal Service First Report and Order, Local Competition First Report and Order, and Local Competition Second Report and Order, as listed in the attachments to this document, are dismissed as of February 12, 2002.

Federal Communications Commission.
William F. Caton,
Acting Secretary.

Attachment A.—Petitions for Reconsideration of the Universal Service First Report and Order
Commenter | Date filed
Ad Hoc | 7/17/97
AirTouch Communications, Inc | 7/17/97
Alaska Public Utilities Commission | 7/17/97
Alaska Telephone Association | 7/17/97
Alliance for Public Technology | 7/14/97
ALLTEL | 7/17/97
American Petroleum Institute | 7/16/97
Arkansas Public Service Commission | 7/16/97
Benton Foundation/Edgemont Neighborhood Coalition | 7/23/97
Cellular Telecommunications Industry Association | 7/17/97
Columbia Communications Corp | 7/17/97
Comcast Cellular Communications, Inc | 7/17/97
Fidelity Telephone Company | 7/17/97
Florida Dept. of Education | 7/17/97
Florida Dept. of Management Services | 7/17/97
Florida Public Service Commission | 7/16/97
GE American Communications, Inc | 7/17/97
Georgia Dept. of Administrative Services—Info.Tech | 7/17/97
General Communications, Inc | 7/17/97
Global Village Schools Institute | 6/25/97
GVNW | 7/11/97
ITCs, Inc | 7/17/97
Information Technology Assoc. of America | 7/16/97
Iowa Telecommunications and Technology Commission | 7/17/97
Kansas Corporation Commission | 7/17/97
MCI Telecommunications Corporation | 7/17/97
National Association of State Telecommunications Directors | 7/17/97
National Exchange Carrier Association, Inc | 7/17/97
New Jersey Division of the Ratepayer Advocate | 7/17/97
New York Library Association | 7/17/97
NEXTEL Communications, Inc | 7/17/97
Ozark Telecom, Inc | 7/17/97
Personal Communications Industry Association | 7/17/97
ProNet Inc | 7/17/97
Rural Telephone Companies | 7/17/97
Sandwich Isles | 7/17/97
Sprint Corp | 7/17/97
Sprint Spectrum L.P. | 7/17/97
Teletouch Licenses, Inc | 7/17/97
TelHawaii, Inc | 7/17/97
Texas Public Utilities Commission | 7/16/97
Time Warner Communications Holdings, Inc | 7/17/97
United Utilities | 7/16/97
U.S. Catholic Conference, et al | 7/17/97
US WEST | 7/17/97
Vermont Public Service Board | 7/17/97
Washington State Dept. of Information Services | 7/17/97
Western Alliance | 7/17/97

Attachment B.—Petitions for Reconsideration of the Local Competition First Report and Order
Commenter | Date filed
Airtouch Paging, Cal-Autofone and Radio Electronic Products Corp | 9/30/96
American Electric Power Service Corporation, et al | 9/30/96
American Public Power Association | 9/30/96
Association of American Railroads | 9/30/96
Carolina Power & Light Company | 9/30/96
Cellular Telecommunications Industry Association | 9/30/96
Colorado Public Utilities Commission | 9/27/96
Comcast Cellular Communications, Inc and Vanguard Cellular Systems, Inc | 9/30/96
Consolidated Communications Telecom Services Inc | 9/30/96
Consolidated Edison Company of New York, Inc | 9/30/96
Cox Communications, Inc | 9/30/96
Delmarva Power & Light Company | 9/30/96
Duquesne Light Company | 9/30/96
Edison Electric Institute, et al | 9/30/96
Florida Power & Light Company | 9/30/96
General Communication, Inc | 9/30/96
Information Technology Association of America | 9/30/96
Kalida Telephone Company, Inc | 9/30/96
Local Exchange Carrier Coalition | 9/30/96
Lower Colorado River Authority | 9/30/96
Meek, Representative Carrie P | 9/23/96
National Cable Television Association, Inc | 9/30/96
Pacific Gas and Electric Company | 9/30/96
Pennsylvania Power & Light Company | 9/30/96
Pilgrim Telephone, Inc | 9/30/96
Public Service Commission of Wisconsin | 9/27/96
Public Utilities Commission of Ohio | 9/30/96
Rand McNally & Company | 9/30/96
Sprint Corporation | 9/30/96
Teleport Communications Group Inc | 9/30/96
Texas Public Utility Commission | 9/26/96
Time Warner Communications Holdings, Inc | 9/30/96
UTC, The Telecommunications Association | 9/30/96
Washington Utilities and Transportation Commission | 9/30/96
Weldon, Representative Dave | 9/23/96
WinStar Communications, Inc | 9/30/96

Attachment C.—Petitions for Reconsideration of the Local Competition Second Report and Order
Commenter | Date filed
Airtouch Paging/PowerPage | 10/7/96
Ameritech | 10/7/96
AT&T | 10/7/96
BellSouth Corp. | 10/7/96
GTE Service Corp. | 10/7/96
MCI Telecommunications Corp. | 10/7/96
New York State Dept. of Public Service | 10/7/96
NYNEX Telephone Companies | 10/7/96
Rural Telephone Coalition | 10/7/96
U.S. Telephone Association | 10/7/96

[FR Doc. 02-3277 Filed 2-11-02; 8:45 am]

BILLING CODE 6712-01-P